DEPARTMENT OF THE INTERIOR

Bureau of Land Management

[LLID910000.L18300000.XG0000.LXSSD0570000.4500104697]

Notice of Mailing/Street Address Change for the BLM-Challis Field Office, Idaho

AGENCY: Bureau of Land Management, Interior.

ACTION: Notice.

SUMMARY: The mailing/street address for the Bureau of Land Management (BLM) Challis Field Office will change from 1151 Blue Mountain Road, Challis, Idaho 83226 to street address 721 East Main Avenue, Suite 8, Challis, Idaho 83226 and mailing address P.O. Box 817, Challis, Idaho 83226.

DATES: The date for the change will be on or about May 1, 2017.

ADDRESSES: The new street address of the BLM Challis Field Office will be 721 East Main Avenue, Suite 8, Challis, Idaho 83226. The office's new mailing address will be P.O. Box 817, Challis, Idaho 83226.

FOR FURTHER INFORMATION CONTACT: Richard Alvarez, Lead Property Management Specialist, BLM Idaho State Office, (208) 373-3916, ralvarez@blm.gov. Persons who use a telecommunications device for the deaf (TDD) may call the Federal Relay Service (FRS) at 1-800-877-8339 to leave a message or question for Mr. Alvarez. The FRS is available 24 hours a day, seven days a week. You will receive a reply during normal business hours.

Authority: Department of the Interior Departmental Manual Part 382, Chapter 2.1.

Timothy M. Murphy,
BLM Idaho State Director.

[FR Doc. 2017-08329 Filed 4-24-17; 8:45 am]

BILLING CODE 4310-GG-P